DEPARTMENT OF COMMERCE

National Oceanic and Atmospheric Administration

[RTID 0648-XD656]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by Coonamessett Farm Foundation. Regulations under the Magnuson-Stevens Fishery Conservation and Management Act require publication of this notification to provide interested parties the opportunity to comment on applications for proposed EFPs.

DATES: Comments must be received on or before April 12, 2024.

ADDRESSES: You may submit written comments by email at nmfs.gar.efp@noaa.gov. Include in the subject line “CFF Great South Channel HMA Clam EFP.”

All comments received are a part of the public record and will generally be posted for public viewing in https://www.noaa.gov/organization/information-technology/foia-reading-room without change. All personal identifying information (e.g., name, address), confidential business information, or otherwise sensitive information submitted voluntarily by the sender will be publicly accessible. NMFS will accept anonymous comments (enter “anonymous” as the signature if you wish to remain anonymous).

FOR FURTHER INFORMATION CONTACT: Douglas Potts, Fishery Policy Analyst, douglas.potts@noaa.gov, 978-281-9341.

SUPPLEMENTARY INFORMATION: The applicant submitted a complete application for an EFP to conduct commercial fishing activities that the regulations would otherwise restrict. This EFP would exempt the participating vessels from the following Federal regulations:

Table 1—Requested Exemptions
CFR citation | Regulation | Need for exemption
50 CFR 648.370(h) | Habitat Management Areas—prohibition on using bottom-tending mobile gear | To conduct compensation fishing with hydraulic clam dredges.

Table 2—Project Summary
Project title | Compensation fishing in support of a Great South Channel Habitat Management Area study phase II: an acoustic mapping survey of Davis Bank East
Division action number | DA23-073.
Principal Investigator | Natalie Jennings.
Institution | Coonamessett Farm Foundation (CFF).
Continuing project (yes/no) | Yes.
Initial application date | September 26, 2023.
Complete application date | December 5, 2023.
Funding source | Compensation fishing.
Project Start | Upon issue.
Project End | 1 year from issue.
Project objectives | Compensation surfclam fishing to fund a habitat mapping project using multibeam sonar and drop cameras.
Project location | Great South Channel Habitat Management Area, Davis Bank East.
Number of vessels | 3 (2 active with 1 in reserve).
Number of trips | 260.
Trip duration (days) | 1.
Total number of days | 260.
Gear type(s) | Hydraulic clam dredge.
Number of tows or sets | 30 per trip.
Duration of tows or sets | 0.16 hrs.

Project Narrative

Acoustic Survey Trips

An initial survey of the full Davis Bank East area (approximately 60 square kilometers) would be conducted using multibeam sonar and a drop camera array, lasting approximately 8 and 6 days, respectively. This would establish a baseline to monitor changes in fished and unfished portions of the area. Following the initial survey, research trips would consist of one 4-day trip per season (16 total days) in the northern half of the area. The survey would be conducted with a 25-percent overlap between adjacent multibeam lines. Sonar imagery would be processed for bathymetry and backscatter. In addition, a 2-day research trip would occur seasonally (8 total days) using a drop camera array to ground-truth the sonar imagery and provide benthic community biological information. Drop camera survey trips would be conducted concurrent with the sonar survey trips. Four drops per hour would be accomplished for 12 hours for 2 days, with a goal of approximately 96 stations sampled per trip. Time of day, sea state and weather conditions, GPS coordinates, depth, and time on bottom will be recorded at each drop camera station. The drop camera is a 4-foot-tall, four-sided pyramid outfitted with lights and a high-resolution Sony camera with a 1-meter-squared field of view. A final multibeam sonar and drop camera survey of the full Davis Bank East area would be conducted again lasting approximately 8 and 6 days, respectively. All survey trips would be directed by two CFF scientists onboard the vessel. No fishing gear will be deployed during survey trips. CFF will submit a separate application for a letter of acknowledgment of scientific research for these survey cruises.

Compensation Fishing Trips

The EFP would authorize the harvest of surfclams from an area closed to hydraulic clam dredges for the purpose of generating funds for the acoustic survey. After the initial acoustic survey is completed, two commercial surfclam vessels would take up to 130 trips (260 total trips) into the southern portion of the Davis Bank East area defined by these coordinates:

Latitude | Longitude
41.268° N | 69.58° W.
41.268° N | 69.508° W.
41.223° N | 69.566° W.
41.223° N | 69.508° W.

Both vessels would use a 48-inch-wide hydraulic surfclam dredge, towed between 2 and 3 knots for 10 minutes per tow, with a trip limit of 14 cages. Approximately 30 tows would be conducted per trip. A CFF scientist would be onboard 25 percent of compensation fishing trips to collect surfclam catch per unit effort and catch composition data. The vessel owners have committed 15 percent of the value of each trip to cover the full cost of the research trips and data analysis. At an estimated $30 per bushel ex-vessel value, this would just cover the total research budget of roughly $505,000. The participating vessel owners have agreed to make up the difference if the price falls below $30 per bushel.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 7, 2024.
Everett Wayne Baxter,
Acting Director, Office of Sustainable Fisheries, National Marine Fisheries Service.

[FR Doc. 2024-05271 Filed 3-12-24; 8:45 am]

BILLING CODE 3510-22-P